DEPARTMENT OF STATE

[Public Notice: 12906]

Request for Information for the 2026 Trafficking in Persons Report

SUMMARY: The Department of State (“the Department”) submits this annual request to the public, through the Federal Register, seeking written information to assist in reporting on the degree to which the United States and foreign governments meet the minimum standards for the elimination of trafficking in persons (“minimum standards”) that are prescribed by the Trafficking Victims Protection Act of 2000.

DATES: Submissions must be made in writing to the Office to Monitor and Combat Trafficking in Persons (TIP) at the Department of State by 5 p.m. EST on February 27, 2026.

SUPPLEMENTARY INFORMATION: This written information will assist in the preparation of the Trafficking in Persons Report (“TIP Report”), which the Department submits annually to the U.S. Congress on governments' concrete actions to meet the minimum standards for the elimination of trafficking in persons (“minimum standards”) that are prescribed by the Trafficking Victims Protection Act of 2000 (Div. A, Pub. L. 106-386), as amended (“TVPA”). Foreign governments that do not meet the minimum standards and are not making significant efforts to do so may be subject to restrictions on nonhumanitarian, nontrade-related foreign assistance from the United States, as defined by the TVPA. Please refer to the Information Sought Relevant to the Minimum Standards section of this Notice for the questionnaire and to the Scope of Interest and Information Sought sections for additional instructions on submission requirements. Written submissions and supporting documentation may be submitted by the following method:

• Email: tipreport@state.gov for submissions related to foreign governments and tipreportUS@state.gov for submissions related to the United States.

Scope of Interest: The Department requests information relevant to assessing the United States' and foreign governments' concrete actions to meet the minimum standards for the elimination of trafficking in persons during the reporting period (April 1, 2025-March 31, 2026). The minimum standards are listed in the Background section. Submissions must include information relevant to efforts to meet the minimum standards and should include, but need not be limited to, answering the questions in the Information Sought section. Submissions need not include answers to all the questions; only those questions for which the submitter has direct professional experience should be answered, and that experience should be noted. For any critique or deficiency described, please provide a recommendation to remedy it. Note the country or countries that are the focus of the submission.

Submissions may include written narratives answering the questions presented in this Notice, research, studies, statistics, fieldwork, training materials, evaluations, assessments, and other relevant evidence of local, state/provincial, and federal/central government efforts. To the extent possible, please include precise dates and numbers of officials or individuals affected.

Written narratives providing factual information should provide citations of sources, and copies of and links to the source material should be provided. Please send electronic copies of the entire submission, including source material. If primary sources are used, such as research studies, interviews, direct observations, or other sources of quantitative or qualitative data, provide details on the research or data-gathering methodology and any supporting documentation. The Department only includes in the TIP Report information related to trafficking in persons as defined by the TVPA (see definition below).

Confidentiality: Please provide the name, phone number, and email address of a single point of contact for any submission. It is Department practice not to identify in the TIP Report information concerning sources. Note, however, that any information submitted to the Department may be releasable pursuant to the provisions of the Freedom of Information Act or other applicable law. Submissions related to the United States will be shared with U.S. government agencies, as will submissions relevant to efforts of other U.S. government agencies.

Response: This is a request for information only; there will be no response to submissions. Remuneration for responses will not be provided. In order to expend appropriated funds, there must be specific authority to do so. The Department of State has no authority to expend funds for this purpose.

Background

Definitions: The TVPA defines “severe forms of trafficking in persons” as:

• The recruitment, harboring, transportation, provision, obtaining, patronizing, or soliciting of a person for the purpose of a commercial sex act that is induced by force, fraud, or coercion, or in which the person induced to perform such act has not attained 18 years of age.

○ Persons under age 18 in commercial sex are trafficking in persons victims regardless of whether force, fraud, or coercion were involved.

• The recruitment, harboring, transportation, provision, or obtaining of a person for labor or services, through the use of force, fraud, or coercion, for the purpose of subjection to involuntary servitude, peonage, debt bondage, or slavery.

○ Forced labor may take the form of domestic servitude, forced begging, forced criminal activity (e.g., drug smuggling), and prison labor that is not a consequence of a conviction in a court of law.

• Children recruited or used as soldiers or for labor or services can be a severe form of human trafficking when the activity involves force, fraud, or coercion. Children may be victims regardless of gender.

The TIP Report: The TIP Report assesses governments' efforts worldwide to combat trafficking in persons. It represents an annual global assessment of the nature and scope of trafficking in persons and the broad range of government actions to confront and eliminate it. The U.S. government uses the TIP Report to inform diplomacy, encourage partnership in creating and implementing laws and policies to combat trafficking, and target resources on prevention, protection, and prosecution programs. Prosecuting traffickers, protecting victims, and preventing trafficking are the ultimate goals of the TIP Report and of the U.S government's anti-trafficking policy.

The TIP Report focuses on concrete actions made by governments to fight trafficking in persons, including prosecutions, convictions, and sentences for traffickers, as well as victim identification and protection measures and prevention efforts. Rankings only consider government actions to combat human trafficking, not the activities of nongovernmental organizations (NGOs) or international organizations. Each TIP Report country narrative includes prioritized recommendations for each country. These recommendations are used to assist the Department in measuring governments' progress from one year to the next and determining whether governments meet the minimum standards for the elimination of trafficking in persons or are making significant efforts to do so.

The TVPA creates a four-tier ranking system. Tier placement is based principally on the extent of concrete government action to combat trafficking. The Department first evaluates whether the government fully meets the TVPA's minimum standards for the elimination of trafficking, as set forth in Sec. 108 of the TVPA, as amended (22 U.S.C. 7106). Governments that do so are placed on Tier 1. For other governments, the Department considers the extent of such efforts. Governments that are making significant efforts to meet the minimum standards are placed on Tier 2. Governments that do not fully meet the minimum standards and are not making significant efforts to do so are placed on Tier 3. Finally, the Department considers Watch List criteria and, when applicable, places countries on the Tier 2 Watch List. For more information, the 2025 TIP Report can be found at www.state.gov/reports/2025-trafficking-in-persons-report.

The 2025 TIP Report included 188 countries and territories. Around the world, the TIP Report has inspired legislation, national action plans, policy implementation, program funding, protection mechanisms to complement prosecution efforts, and a stronger global understanding of this crime.

Since 2010, the TIP Report, through a collaborative interagency process, has included an assessment of U.S. government anti-trafficking efforts in light of the minimum standards to eliminate trafficking in persons set forth by the TVPA.

The Department will maintain adherence to its statutory mandates but may further streamline the TIP Report. Submissions may include input on how the Department could achieve this, which will be considered in preparing for future TIP Reports.

Information Sought Relevant to the Minimum Standards

Submissions should include, but need not be limited to, answers to relevant questions below directly connected with the TVPA Minimum Standards for which the submitter has direct professional experience within the reporting period (April 1, 2025-March 31, 2026). Please see the Scope of Interest section above for detailed information regarding submission requirements.

Overview

1. What were the government's major accomplishments in addressing human trafficking since April 1, 2025? In what significant ways have the government's efforts to combat trafficking in persons changed in the past year? How have new laws, regulations, policies, or implementation strategies (e.g., substantive criminal laws and procedures, mechanisms for civil remedies, and victim-witness programs, generally and in relation to court proceedings) affected its anti-trafficking response?

2. Over the past year, what were the greatest deficiencies in the government's anti-trafficking efforts? What were the limitations on the government's ability to address human trafficking problems in practice?

3. Provide observations regarding the implementation of existing laws, policies, and procedures. Are there gaps in anti-trafficking legislation that could be amended to improve the government's response? Are there any government policies that have undermined or otherwise negatively affected anti-trafficking efforts within that country?

Trafficking Profile

4. Describe human trafficking trends, drivers, methods, source/destination dynamics, industries and sectors, impacted demographics, recruitment methods, etc. during the reporting period. Please report the profile of victims at particular risk of sex trafficking or labor trafficking, including any changes since the last reporting period (e.g., men, women, children, migrants, certain ethnic groups). Please note whether there was labor trafficking or sex trafficking by narcotics traffickers, those involved in migrant smuggling or other migration schemes, and gangs.

5. Are any Chinese, Cuban, or North Korean persons present in the country as part of government-to-government agreements and/or in foreign government-affiliated projects? If present, are these individuals subjected to or at high risk of forced labor?

6. If applicable, describe how traffickers used technology to recruit and exploit victims and how the government responded to tech-facilitated human trafficking.

Prosecution

7. Do government officials, including judges, understand the nature of all forms of trafficking? If not, provide examples. Did the government effectively provide or support anti-trafficking trainings for officials, including on enforcement of policies, and laws; and/or on victim identification measures or procedures? If not, how could it be improved?

8. Provide observations on overall efforts to criminally investigate, prosecute, and convict traffickers. Is the government equally vigorous in pursuing forced labor and sex trafficking, domestic and transnational trafficking, and crimes that involve its own nationals or foreign citizens?

9. Does law enforcement pursue trafficking cases seeking to hold criminally accountable private employers or corporations for forced labor in supply chains?

10. Describe any allegations of official complicity in trafficking crimes, including of state-sponsored forced labor. What measures did the government take to end or prevent official complicity in trafficking in persons crimes? How did the government respond to reports of complicity during the reporting period, including investigations, prosecutions, convictions, and sentencing of complicit officials?

11. Is there evidence nationals of the country deployed abroad as part of a diplomatic, peacekeeping, or other similar mission have engaged in or facilitated trafficking, including in domestic servitude? Has the government vigorously investigated, prosecuted, convicted, and sentenced nationals engaged in these activities?

12. If the government has entered into a bilateral, multilateral, or regional anti-trafficking information-sharing and cooperation arrangements, is the agreement effective and has it resulted in concrete and measurable outcomes?

Protection

13. Did the government make a coordinated, proactive effort to identify victims of all forms of trafficking? If there were any new (or changes to preexisting) formal/standard procedures for screening for trafficking and for victim referral to protection services, were those procedures sufficient and how did the government implement them?

14. If the government had written procedures to guide officials in referring potential trafficking victims to services, did front-line officials implement the referral procedures and was implementation consistent across all affected populations? Did officials effectively coordinate among one another and with relevant NGOs to conduct screenings and refer victims to care? Did the referral procedures require victims to interact with law enforcement before being referred to social service providers?

15. Did government policy require a person to be formally identified as a trafficking victim to receive certain services or benefits? If yes, which services or benefits were limited to people formally identified as trafficking victims?

16. If commercial sex is legalized or decriminalized in the country, how did health officials, labor inspectors, or police identify trafficking victims among persons involved in commercial sex? If commercial sex is illegal, did the government proactively identify trafficking victims during law enforcement operations or other encounters with commercial sex establishments?

17. What was the overall quality of victim care? Were there any new (or changes to preexisting) services available for victims and survivors (legal, medical, food, shelter, interpretation, mental health care, employment, training, etc.)? If NGOs provide the services, does the government support their work either financially or otherwise? Did all victims and survivors of both labor and sex trafficking receive the same quality and level of access to services?

18. Where were child victims placed (e.g., in shelters, foster care, or juvenile justice detention centers), and what kind of specialized care did they receive?

19. If the government operates or funds any trafficking-specific hotlines (including those run by NGOs), did calls to those hotlines lead to victim identification, victim referral to care, and/or criminal investigations?

20. What is the level of cooperation, communication, and trust between service providers and law enforcement?

21. Were there means by which victims could obtain restitution from defendants in criminal cases or file civil suits against traffickers for damages, and did this happen in practice? Did prosecutors request and/or courts order restitution in all cases where it was required, and if not, why?

22. Please provide observations on the treatment of victims and survivors throughout the criminal legal process. How did the government support victims who assisted in the investigation and prosecution of trafficking cases? Did service providers have the knowledge and skills to support victims through a consistent victim-centered approach? What, if any, alternatives were available to victims instead of speaking to law enforcement during investigations (for example, speaking to a victim-witness advocate, social worker, psychologist, etc.)? In what ways could the government increase support for victims in prosecutions against traffickers?

23. Did the government protect victims of severe forms of trafficking and encourage their assistance in the investigation and prosecution of such trafficking, including through provisions for legal alternatives to their removal to countries in which they would face retribution or hardship? Were such benefits linked to whether a victim assisted law enforcement, whether a victim participated in a trial, or whether there was a successful prosecution? Does the government repatriate victims who wish to return home or assist with third-country resettlement, and are victims awaiting repatriation or third-country resettlement offered services?

24. Does the government effectively assist its nationals exploited abroad? Does the government provide adequate assistance to repatriated victims after their return to their countries of origin, and if so, what forms of assistance?

25. Were potential trafficking victims incarcerated, fined, or otherwise penalized solely for unlawful acts committed as a direct result of being trafficked (e.g., subject to commercial sex, drug-related, or other criminal charges, or subject to deportation/immigration enforcement or administrative penalties)?

Prevention

26. What efforts has the government made to prevent human trafficking? If the government had a national action plan to address trafficking, how was it implemented in practice? Were NGOs and other relevant civil society stakeholders consulted in the development and implementation of the plan? Who will monitor its implementation and/or measure its impact?

27. Please describe any government-funded anti-trafficking information or education campaigns or training, whether aimed at the public or at specific sectors or stakeholders/actors. Were campaign materials readily available, cost-free, and accessible in various languages, including braille? Does the government provide financial support to NGOs working to promote public awareness?

28. Did the government seek and include the input of civil society and survivors in crafting or implementing anti-trafficking laws, regulations, policies, or programs?

29. How did the government regulate, oversee, and screen for trafficking indicators in the labor recruitment process, including for both licensed and unlicensed recruitment and placement agencies, individual recruiters, and sub-brokers? Did the government prohibit (in any context) charging workers recruitment fees and prohibit the recruitment of workers through knowingly fraudulent job offers (including misrepresenting wages, working conditions, location, or nature of the job), contract switching, and confiscating or otherwise denying workers access to their identity documents? If there are laws or regulations on recruitment, did the government effectively enforce them? Did the government have mechanisms to prevent trafficking by employers in migrant worker programs? Are workers in all industries (e.g., domestic work, agriculture, etc.) sufficiently protected under existing labor laws?

30. Did the government take tangible action to prevent forced labor in domestic or global supply chains? Did the government make any efforts to prohibit and prevent trafficking in the supply chains of its own public procurement?

31. Did the government provide assistance to other governments in combating trafficking in persons through trainings or other assistance programs?

32. What measures have the government taken to reduce its nationals' or foreigners' participation in domestic and extraterritorial child sexual exploitation? Note: This was previously covered as “child sex tourism.”

Territories and Semi-Autonomous Regions

33. Provide any information about trafficking trends and government anti-trafficking efforts in dependent territories and semi-autonomous regions to prosecute traffickers, identify and provide services to victims, and prevent trafficking.

Child Soldiering

34. Using the definition of “child soldier” as defined by the Child Soldiers Prevention Act of 2008 (CSPA), describe instances, cases, and reports, including anecdotal reports, of:

a. Use of any person under the age of 18 in direct hostilities as a member of governmental armed forces, police, or other security forces;

b. Conscription or forced recruitment of persons under the age of 18 into governmental armed forces, police, or other security forces;

c. Voluntary recruitment of any person under 15 years of age into governmental armed forces, police, or other security forces;

d. Recruitment (forced or voluntary) or use in hostilities of persons under the age of 18 by armed groups distinct from the armed forces of a state.

e. Abuse of male and female children recruited by governmental armed forces, police, or other security forces, and government-supported armed groups (e.g., sexual abuse or use for forced labor). Describe the manner and age of conscription, noting differences in treatment or conscription patterns based on gender.

35. Did the government provide support to an armed group that recruits and/or uses child soldiers? What was the extent of the support (e.g., in-kind, financial, training, etc.)? Where did the provision of support occur (within the country or outside of the country)? In cases where the government was included on the CSPA list in 2025 based on its support to non-state armed groups that recruit and/or use child soldiers, describe whether the government took steps to pressure the group to cease its recruitment or use of child soldiers, publicly disavow the group's recruitment or use of child soldiers, or cease its support to that group.

36. Describe any government efforts to prevent or end child soldier recruitment or use, including efforts to disarm, demobilize, and reintegrate former child soldiers. (i.e., enacting any laws or regulations, implementing a United Nations Action Plan or Roadmap, specialized training for officials, procedures for age verification, etc.)

Rachel M. Poynter,
Acting Director, Office to Monitor and Combat Trafficking in Persons, Bureau of Democracy, Human Rights, and Labor Department of State.

[FR Doc. 2026-00513 Filed 1-13-26; 8:45 am]

BILLING CODE 4710-18-P